DEPARTMENT OF COMMERCE

National Oceanic and Atmospheric Administration

RIN 0648-XC707

Caribbean Fishery Management Council; Public Meeting

AGENCY: National Marine Fisheries Service (NMFS), National Oceanic and Atmospheric Administration (NOAA), Commerce.

ACTION: Notice of a public meeting.

SUMMARY: The Caribbean Fishery Management Council's Outreach and Education Advisory Panel (OEAP) will hold a meeting.

DATES: The OEAP meeting will be held on June 26, 2013, from 10 a.m. to 5 p.m.

ADDRESSES: The meeting will be held at the CFMC Offices, 270 Muñoz Rivera Avenue, 4th Floor, Suite 401, San Juan, Puerto Rico.

FOR FURTHER INFORMATION CONTACT: Caribbean Fishery Management Council, 270 Muñoz Rivera Avenue, Suite 401, San Juan, Puerto Rico 00918, telephone (787) 766-5926.

SUPPLEMENTARY INFORMATION: The OEAP will meet to discuss the items contained in the following agenda:

10 a.m.-5 p.m

° Call to Order

° Adoption of Agenda

° OEAP Chairperson's Report

• Status of:

○ Newsletter

○ Web site

○ 2014 Calendar

○ CFMC Brochure

○ St. Croix Fuete y Verguilla issue

○ USVI activities

Lía Ortiz presentation

○ PR Commercial Fisheries Project

Helena Antoun presentation

○ Caribbean Fisheries Teacher's Resource Book

• Participation in Managing Our Nation Fisheries 3

• Presentation to St. Thomas Legislators

• Presentation to DNER Secretary

• Other Business

The OEAP will convene on June 26, 2013, from 10 a.m. until 5 p.m.

The meeting is open to the public, and will be conducted in English. Fishers and other interested persons are invited to attend and participate with oral or written statements regarding agenda issues.

Special Accommodations

This meeting is physically accessible to people with disabilities. For more information or request for sign language interpretation and/other auxiliary aids, please contact Mr. Miguel A. Rolón, Executive Director, Caribbean Fishery Management Council, 270 Muñoz Rivera Avenue, Suite 401, San Juan, Puerto Rico, 00918, telephone: (787) 766-5926, at least 5 days prior to the meeting date.

Dated: May 31, 2013.
Tracey L. Thompson,
Acting Deputy Director, Office of Sustainable Fisheries, National Marine Fisheries Service.

[FR Doc. 2013-13369 Filed 6-5-13; 8:45 am]

BILLING CODE 3510-22-P